DEPARTMENT OF ENERGY

Federal Energy Regulatory Commission

[Docket Nos. PR07-13-000; PR07-13-001]

Enterprise Alabama Intrastate, LLC; Notice of Shortened Comment Period

August 22, 2007.

Take notice that on August 22, 2007, Enterprise Alabama Intrastate, LLC filed a Stipulation and Agreement of Settlement (Settlement) in the above-docketed proceeding. Included in its filing was a request to shorten the period for filing initial and reply comments in response to the Settlement.

Because no protests were filed in this docket and the Commission Staff supports the Settlement, we are shortening the date for filing initial comments to and including August 24, 2007. Reply comments should be filed on or before August 28, 2007.

Kimberly D. Bose,
Secretary.

[FR Doc. E7-17248 Filed 8-30-07; 8:45 am]

BILLING CODE 6717-01-P